DEPARTMENT OF TRANSPORTATION

Federal Motor Carrier Safety Administration

[Docket No. FMCSA-2014-0301]

Qualification of Drivers; Exemption Applications; Vision

AGENCY: Federal Motor Carrier Safety Administration (FMCSA), DOT.

ACTION: Notice of applications for exemptions, request for comments.

SUMMARY: FMCSA announces receipt of applications from 23 individuals for exemption from the vision requirement in the Federal Motor Carrier Safety Regulations. They are unable to meet the vision requirement in one eye for various reasons. The exemptions will enable these individuals to operate commercial motor vehicles (CMVs) in interstate commerce without meeting the prescribed vision requirement in one eye. If granted, the exemptions would enable these individuals to qualify as drivers of commercial motor vehicles (CMVs) in interstate commerce.

DATES: Comments must be received on or before March 6, 2015. All comments will be investigated by FMCSA. The exemptions will be issued the day after the comment period closes.

ADDRESSES: You may submit comments bearing the Federal Docket Management System (FDMS) Docket No. FMCSA-2014-0301 using any of the following methods:

• Federal eRulemaking Portal: Go to http://www.regulations.gov. Follow the online instructions for submitting comments.

• Mail: Docket Management Facility; U.S. Department of Transportation, 1200 New Jersey Avenue SE., West Building Ground Floor, Room W12-140, Washington, DC 20590-0001.

• Hand Delivery: West Building Ground Floor, Room W12-140, 1200 New Jersey Avenue SE., Washington, DC, between 9 a.m. and 5 p.m., Monday through Friday, except Federal Holidays.

• Fax: 1-202-493-2251.

Instructions: Each submission must include the Agency name and the docket numbers for this notice. Note that all comments received will be posted without change to http://www.regulations.gov, including any personal information provided. Please see the Privacy Act heading below for further information.

Docket: For access to the docket to read background documents or comments, go to http://www.regulations.gov at any time or Room W12-140 on the ground level of the West Building, 1200 New Jersey Avenue SE., Washington, DC, between 9 a.m. and 5 p.m., Monday through Friday, except Federal holidays. The FDMS is available 24 hours each day, 365 days each year. If you want acknowledgment that we received your comments, please include a self-addressed, stamped envelope or postcard or print the acknowledgement page that appears after submitting comments online.

Privacy Act: In accordance with 5 U.S.C. 553(c), DOT solicits comments from the public to better inform its rulemaking process. DOT posts these comments, without edit, including any personal information the commenter provides, to www.regulations.gov, as described in the system of records notice (DOT/ALL-14 FDMS), which can be reviewed at www.dot.gov/privacy.

FOR FURTHER INFORMATION CONTACT: Charles A. Horan, III, Director, Carrier, Driver and Vehicle Safety Standards, (202) 366-4001, fmcsamedical@dot.gov, FMCSA, Department of Transportation, 1200 New Jersey Avenue SE., Room W64-224, Washington, DC 20590-0001. Office hours are from 8:30 a.m. to 5 p.m., Monday through Friday, except Federal holidays. If you have questions regarding viewing or submitting material to the docket, contact Docket Services, telephone (202) 366-9826.

SUPPLEMENTARY INFORMATION:

I. Background

Under 49 U.S.C. 31136(e) and 31315, FMCSA may grant an exemption from the Federal Motor Carrier Safety Regulations for a 2-year period if it finds “such exemption would likely achieve a level of safety that is equivalent to or greater than the level that would be achieved absent such exemption.” FMCSA can renew exemptions at the end of each 2-year period. The 23 individuals listed in this notice have each requested such an exemption from the vision requirement in 49 CFR 391.41(b)(10), which applies to drivers of CMVs in interstate commerce. Accordingly, the Agency will evaluate the qualifications of each applicant to determine whether granting an exemption will achieve the required level of safety mandated by statute.

II. Qualifications of Applicants

Jason P. Atwater

Mr. Atwater, 42, has had optic nerve damage and neuropathy due to meningitis in his right eye since 1993. The visual acuity in his right eye is light perception, and in his left eye, 20/20. Following an examination in 2014, his ophthalmologist stated, “In my medical opinion, I believe that he has sufficient vision to operate a commercial vehicle.” Mr. Atwater reported that he has driven straight trucks for 4 years, accumulating 160,000 miles, and tractor-trailer combinations for 4 years, accumulating 140,000 miles. He holds a Class A CDL from Utah. His driving record for the last 3 years shows no crashes and no convictions for moving violations in a CMV.

Barry W. Borger

Mr. Borger, 69, has had a retinal detachment and phthisical cornea in his left eye since 2008. The visual acuity in his right eye is 20/20, and in his left eye, light perception. Following an examination in 2014, his optometrist stated, “I believe that, in my opinion, Barry Borger has sufficient vision to perform the driving tasks required of him.” Mr. Borger reported that he has driven straight trucks for 40 years, accumulating one million miles. He holds a Class AM CDL from Pennsylvania. His driving record for the last 3 years shows no crashes and no convictions for moving violations in a CMV.

William W. Dugger

Mr. Dugger, 49, has had amblyopia in his right eye since birth. The visual acuity in his right eye is 20/60, and in his left eye, 20/20. Following an examination in 2014, his optometrist stated, “Therefore in my professional opinion Mr. Dugger has tested and has found to have sufficient vision to perform the tasks to safely operate a commercial vehicle.” Mr. Dugger reported that he has driven straight trucks for 5 years, accumulating 125,000 miles. He holds a Class DB CDL from Kentucky. His driving record for the last 3 years shows no crashes and no convictions for moving violations in a CMV.

Steven D. Ellsworth

Mr. Ellsworth, 46, has had amblyopia in his left eye since childhood. The visual acuity in his right eye is 20/20, and in his left eye, 20/400. Following an examination in 2014, his ophthalmologist stated, “It is my clinical opinion that his vision is stable from last year and he is fit to continue his position as a fleet technician, as well as his requirement to drive CMV vehicles as previously performed as part of his job duties.” Mr. Ellsworth reported that he has driven straight trucks for 7 years, accumulating 104,993 miles. He holds a Class A CDL from Illinois. His driving record for the last 3 years shows no crashes and no convictions for moving violations in a CMV.

Travis B. Giest

Mr. Giest, 39, has macular and retinal scarring in his right eye due to a traumatic incident during childhood. The visual acuity in his right eye is 20/200, and in his left eye, 20/20. Following an examination in 2014, his optometrist stated, “In my opinion, Mr. Giest has sufficient vision to operate a commercial vehicle.” Mr. Giest reported that he has driven straight trucks for 3.5 years, accumulating 27,300 miles, and tractor-trailer combinations for 3.5 years, accumulating 27,300 miles. He holds a Class A CDL from Idaho. His driving record for the last 3 years shows no crashes and no convictions for moving violations in a CMV.

Arlan T. Hrubes

Mr. Hrubes, 66, has had central retinal artery obstruction and subsequent laser surgeries resulting in macular scars in his right eye since 1995. The visual acuity in his right eye is 20/400, and in his left eye, 20/15. Following an examination in 2014, his optometrist stated, “In my professional opinion the loss of Mr. Hrubes central vision of his right eye in no way restricts his ability to operate a commercial vehicle or any other vehicle and this is in agreement with scientific studies posing the question “what advantage does a two eye person have over a one eyed person.: The answer to that question is, “very little”. A two eye person has a spare, whereas a one eyed person does not.” Mr. Hrubes reported that he has driven straight trucks for 34 years, accumulating 170,000 miles, and tractor-trailer combinations for 26 years, accumulating 260,000 miles. He holds a Class A CDL from Wyoming. His driving record for the last 3 years shows no crashes and no convictions for moving violations in a CMV.

Abdalla M. Jalili

Mr. Jalili, 45, has had amblyopia since childhood and a retinal detachment since 2007, both in his left eye. The visual acuity in his right eye is 20/25, and in his left eye, 20/400. Following an examination in 2014, his optometrist stated, “Based on my medical opinion the patient has sufficient vision to perform the driving tasks required to operate a commercial vehicle.” Mr. Jalili reported that he has driven straight trucks for 11 years, accumulating 82,500 miles. He holds a Class D CDL from Illinois. His driving record for the last 3 years shows no crashes and no convictions for moving violations in a CMV.

David M. Krause

Mr. Krause, 57, has had amblyopia in his right eye since birth. The visual acuity in his right eye is 20/80, and in his left eye, 20/20. Following an examination in 2014, his optometrist stated, “In my medical opinion, Mr. Krause possesses the necessary visual functioning to drive a commercial vehicle.” Mr. Krause reported that he has driven straight trucks for 3 years, accumulating 10,200 miles. He holds a Class ABCDM CDL from Wisconsin. His driving record for the last 3 years shows no crashes and no convictions for moving violations in a CMV.

Stephen C. Martin

Mr. Martin, 39, has had a corneal scar and amblyopia in his left eye since childhood. The visual acuity in his right eye is 20/20, and in his left eye, 20/200. Following an examination in 2014, his optometrist stated, “In my medical opinion I certify that Stephen Martin has sufficient vision to perform the driving tasks required to operate a commercial motor vehicle.” Mr. Martin reported that he has driven straight trucks for 5 years, accumulating 400,000 miles, and tractor-trailer combinations for 5 years, accumulating 400,000 miles. He holds a Class A CDL from Pennsylvania. His driving record for the last 3 years shows no crashes and no convictions for moving violations in a CMV.

Troy L. McCord

Mr. McCord, 26, has had amblyopia in his right eye since childhood. The visual acuity in his right eye is 20/80, and in his left eye, 20/20. Following an examination in 2014, his optometrist stated, “Patient have [sic] sufficient vision to operate commercial vehicle.” Mr. McCord reported that he has driven straight trucks for 2 years, accumulating 60,000 miles. He holds an operator's license from Texas. His driving record for the last 3 years shows no crashes and no convictions for moving violations in a CMV.

Ronald M. Metzger

Mr. Metzger, 50, has had a conjunctional cyst and retinal detachment in his left eye since 2011. The visual acuity in his right eye is 20/20, and in his left eye, 20/125. Following an examination in 2014, his ophthalmologist stated, “Based on todays [sic] exam, Pt [sic] has sufficient vision to perform the driving tasks required to operate a commercial vehicle.” Mr. Metzger reported that he has driven straight trucks for 23 years, accumulating 2.3 million miles. He holds a Class A CDL from New York. His driving record for the last 3 years shows no crashes and no convictions for moving violations in a CMV.

Gerald D. Milner, Jr.

Mr. Milner, 47, has corneal scarring in his right eye due to a traumatic incident during childhood. The visual acuity in his right eye is hand motion, and in his left eye, 20/20. Following an examination in 2014, his optometrist stated, “Dr [sic] Valenti certifies through the examination and my medical opinion that Gerald Milner has sufficient vision to perform the driving tasks required to operate a commercial vehicle.” Mr. Milner reported that he has driven straight trucks for 28 years, accumulating 121,464 miles. He holds an operator's license from Illinois. His driving record for the last 3 years shows no crashes and no convictions for moving violations in a CMV.

Ali Nimer

Mr. Nimer, 53, has a corneal scar and iris scarring in his right eye due to a traumatic incident during childhood. The visual acuity in his right eye is counting fingers, and in his left eye, 20/20. Following an examination in 2014, his optometrist stated, “In my opinion Mr. Nimer has sufficient vision to perform driving tasks required to operate a commercial vehicle.” Mr. Nimer reported that he has driven straight trucks for 9 years, accumulating 37,080 miles. He holds an operator's license from Illinois. His driving record for the last 3 years shows no crashes and no convictions for moving violations in a CMV.

Richard A. Pierce

Mr. Pierce, 44, has had strabismic amblyopia in his right eye since childhood. The visual acuity in his right eye is 20/200, and in his left eye, 20/20. Following an examination in 2014, his optometrist stated, “After completion of my examination it is my professional opinion that Mr. Pierce has sufficient vision to perform the tasks needed to operate a commercial vehicle.” Mr. Pierce reported that he has driven straight trucks for 5 years, accumulating 50,000 miles. He holds a Class A CDL from Missouri. His driving record for the last 3 years shows no crashes and no convictions for moving violations in a CMV.

Richard D. Pontious

Mr. Pontious, 55, has had amblyopia in his left eye since childhood. The visual acuity in his right eye is 20/20, and in his left eye, 20/60. Following an examination in 2014, his optometrist stated, “In my opinion, Richard D [sic] Pontious has sufficient vision to perform the tasks required to operate a commercial vehicle.” Mr. Pontious reported that he has driven tractor-trailer combinations for 26 years, accumulating 1.95 million miles. He holds a Class A CDL from Ohio. His driving record for the last 3 years shows no crashes and no convictions for moving violations in a CMV.

Richard P. Rebel

Mr. Rebel, 75, has had complete loss of vision due to chorioretinal scarring in his left eye since birth. The visual acuity in his right eye is 20/20, and in his left eye, hand motion. Following an examination in 2014, his optometrist stated, “Richard has sufficient vision and driving experience to drive a commercial vehicle with a license restricted to corrective lenses and outside mirrors.” Mr. Rebel reported that he has driven straight trucks for 35 years, accumulating 577,500 miles. He holds a Class B CDL from North Dakota. His driving record for the last 3 years shows no crashes and no convictions for moving violations in a CMV.

Kevin L. Riddle

Mr. Riddle, 49, has had amblyopia with a retinal scar in his left eye since birth. The visual acuity in his right eye is 20/20, and in his left eye, hand motion. Following an examination in 2014, his optometrist stated, “Certifies that in his/her medial opinion, you have sufficient vision to perform the driving tasks required to operate a commercial vehicle. Yes, Patient Has Sufficient Vision to perform Drving [sic] tasks.” Mr. Riddle reported that he has driven straight trucks for 6 years, accumulating 282,000 miles. He holds an operator's license from Florida. His driving record for the last 3 years shows no crashes and no convictions for moving violations in a CMV.

Mustafa Shahadeh

Mr. Shahadeh, 46, has had amblyopia in his left eye since childhood. The visual acuity in his right eye is 20/20, and in his left eye, 20/200. Following an examination in 2014, his ophthalmologist stated, “He has a lifelong history of amblyopia and his vision was consistent on all of his examinations . . . He easily exceeds the standards for a non CDL driver's license and I see no reason he cannot drive commercial vehicles safely.” Mr. Shahadeh reported that he has driven straight trucks for 16 years, accumulating 128,000 miles. He holds an operator's license from Ohio. His driving record for the last 3 years shows no crashes and no convictions for moving violations in a CMV.

Charles P. Smith

Mr. Smith, 66, has a prosthetic left eye due to a traumatic incident in 2010. The visual acuity in his right eye is 20/20, and in his left eye, no light perception. Following an examination in 2014, his optometrist stated, “Charles Smith has sufficient vision to perform the driving tasks required to operate a commercial vehicle.” Mr. Smith reported that he has driven straight trucks for 43 years, accumulating 430,000 miles, and tractor-trailer combinations for 24 years, accumulating 2.4 million miles. He holds a Class A CDL from Missouri. His driving record for the last 3 years shows no crashes and no convictions for moving violations in a CMV.

Timothy R. Tedford

Mr. Tedford, 42, has corneal scarring in his right eye due to a traumatic incident in 1999. The visual acuity in his right eye is hand motion, and in his left eye, 20/20. Following an examination in 2014, his optometrist stated, “I certify that in my professional medical opinion, Mr. Tedford has sufficient vision to perform the driving tasks required to operate a commercial vehicle.” Mr. Tedford reported that he has driven tractor-trailer combinations for 23 years, accumulating 345,000 miles. He holds a Class A CDL from Illinois. His driving record for the last 3 years shows no crashes and no convictions for moving violations in a CMV.

Sean E. Twohig

Mr. Twohig, 51, has had amblyopia in his left eye since childhood. The visual acuity in his right eye is 20/20, and in his left eye, counting fingers. Following an examination in 2014, his ophthalmologist stated, “It is my medical opinion that Sean Twohig has sufficient vision to perform the driving tasks required to operate a commercial vehicle.” Mr. Twohig reported that he has driven straight trucks for 25 years, accumulating 2.5 million miles. He holds an operator's license from New York. His driving record for the last 3 years shows no crashes and no convictions for moving violations in a CMV.

Melvin L. Vaughn

Mr. Vaughn, 68, has had central retinal vein occlusion in his left eye since 2012. The visual acuity in his right eye is 20/20, and in his left eye, 20/400. Following an examination in 2014, his optometrist stated, “It is in my medical opinion that this gentleman has sufficient vision to perform the driving tasks required to operate a commercial vehicle.” Mr. Vaughn reported that he has driven tractor-trailer combinations for 40 years, accumulating four million miles. He holds an operator's license from Wisconsin. His driving record for the last 3 years shows no crashes and no convictions for moving violations in a CMV.

Rick L. Wood

Mr. Wood, 56, has had a macular scar in his right eye since childhood. The visual acuity in his right eye is 20/400, and in his left eye, 20/20. Following an examination in 2014, his ophthalmologist stated, “In my medical opinion, due to his stable ocular status and good visual fields, he has sufficient vision to perform in his driving tasks required to operate a commercial vehicle.” Mr. Wood reported that he has driven straight trucks for 15 years, accumulating 150,000 miles. He holds a Class B CDL from Pennsylvania. His driving record for the last 3 years shows no crashes and no convictions for moving violations in a CMV.

III. Public Participation and Request for Comments

FMCSA encourages you to participate by submitting comments and related materials.

Submitting Comments

If you submit a comment, please include the docket number for this notice, indicate the specific section of this document to which each comment applies, and provide a reason for each suggestion or recommendation. You may submit your comments and material online or by fax, mail, or hand delivery, but please use only one of these means. FMCSA recommends that you include your name and a mailing address, an email address, or a phone number in the body of your document so the Agency can contact you if it has questions regarding your submission.

To submit your comment online, go to http://www.regulations.gov and put the docket number FMCSA-2014-0301 in the “Keyword” box, and click “Search. When the new screen appears, click on “Comment Now!” button and type your comment into the text box in the following screen. Choose whether you are submitting your comment as an individual or on behalf of a third party and then submit. . If you submit your comments by mail or hand delivery, submit them in an unbound format, no larger than 8½ by 11 inches, suitable for copying and electronic filing. If you submit comments by mail and would like to know that they reached the facility, please enclose a stamped, self-addressed postcard or envelope.

FMCSA will consider all comments and material received during the comment period and may change this notice based on your comments.

Viewing Comments and Documents

To view comments, as well as documents mentioned in this preamble as being available in the docket, go to http://www.regulations.gov and insert the docket number FMCSA-2014-0301 in the “Keyword” box and click “Search.” Next, click “Open Docket Folder” button and choose the document listed to review. If you do not have access to the Internet, you may view the docket online by visiting the Docket Management Facility in Room W12-140 on the ground floor of the DOT West Building, 1200 New Jersey Avenue SE., Washington, DC 20590, between 9 a.m. and 5 p.m., e.t., Monday through Friday, except Federal holidays.

Issued on: January 28, 2015.
Larry W. Minor,
Associate Administrator for Policy.

[FR Doc. 2015-02133 Filed 2-3-15; 8:45 am]

BILLING CODE 4910-EX-P